SMALL BUSINESS ADMINISTRATION

Reporting and Recordkeeping Requirements Under OMB Review

AGENCY: Small Business Administration.

ACTION: Notice of 30-day information collection submitted for OMB review.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before January 2, 2014. If you intend to comment but cannot prepare comments promptly, please advise the OMB Reviewer and the Agency Clearance Officer before the deadline.

Copies: Request for clearance (OMB 83-1), supporting statement, and other documents submitted to OMB for review may be obtained from the Agency Clearance Officer.

ADDRESSES: Comments should refer to the information collection by name and/or OMB Control Number (3245-0348) and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

SUPPLEMENTARY INFORMATION: (a) Abstract:

SBA is proposing to make several changes to this information collection (Form 1919, Form 1920SX (B & C) and Forms 2237 and 2238-Control Number 3245-0348). These changes, which are related to the application process for loan application and processing methods for the Agency's 7(a) loan program, are necessary to conform to recent updates to SBA's Standard Operating Procedures (SOP), Lender and Development Company Loan Programs, designated as SOP 50 10 5(F). The update resulted in changes related to franchise eligibility, character determinations, credit standards, and appraisal and business valuation requirements, among others. The update to the SOP also simplifies the application process for all SBA-guaranteed loans in the 7(a) Loan Program by consolidating the various forms used into one set of forms. Specifically, SBA proposes to use this information collection to collect the application related information currently collected by various other collections of information (OMB Control Numbers 3245-0016 and 3245-0361), which will subsequently be discontinued. The new consolidated 3245-0348 information collection will be revised to ensure that all of the non-duplicative and necessary information is captured by the consolidated forms. SBA will make the revised forms available on its Web site immediately after the Agency receives OMB's approval. The Agency will also provide notice of the forms' availability to the affected lending community though its usual communication channels.

SBA also notes that these changes are in addition to the ones that the Agency proposed in the February 25, 2013, publication of 504 and 7(a) Loan Program Updates notice of proposed rulemaking. (78 FR 12633). That rulemaking is still pending final review and approval. As soon as SBA receives that approval it will make any additional and necessary changes to conform to the rule.

(b) Solicitation of Public Comments:

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

(c) Overview of Information Collection:

Title: SBA Express, Export Express, Small Loan Advantage, PLP-Caplines, and Pilot Loan Programs (Patriot Express and Dealer Floor Plan) Description of Respondents: Small businesses applying for an SBA 7(a) loan and lenders participating in that program.

Form Numbers: (i) Form 1919: SBA Express, Export Express, Small Loan Advantage, PLP-CAPLines, and Pilot Loan Programs (Patriot Express And Dealer Floor Plan) Borrower Information Form. This form collects identifying information regarding the applicant, loan request, indebtedness, information about the principals, information about current or previous government financing, and certain other disclosures.

(ii) Form 1920SX (Part A): SBA Express, Export Express, Small Loan Advantage, PLP-CAPLines and Pilot Loan Programs (Patriot Express and Dealer Floor Plan) Guaranty Request. This form will no longer be used as it is a fax coversheet and all applications will be submitted to SBA electronically.

(iii) Form 1920SX (Part B): Supplemental Information for SBA Express, Export Express, Small Loan Advantage, Pilot Loan Programs and PLP Processing. This form is completed by the 7(a) Lender. This form includes, among other things, identifying information regarding the lender, loan terms, and use of proceeds.

(iv) Form 1920SX (Part C): Eligibility Information Required for SBA Express, Export Express, Small Loan Advantage, PLP-CAPLines and Pilot Loan Programs (Patriot Express and Dealer Floor Plan). This form is completed by the 7(a) Lender. It consolidates eligibility criteria regarding the loan applicants, including use of proceeds and general rules applicable to SBA Express, Export Express, Small Loan Advantage, PLP-CAPLines, Patriot Express and Dealer Floor Plan.

(v) Form 2237: 7(a) Loan Post Approval Action Checklist. This form is completed by the Lender and submitted to SBA for post-approval changes to the loan.

(vi) Form 2238: Supplemental Information for SBA Express/Patriot Express Guaranty Request (Eligibility Authorized). This form is completed by the Lender that has been designated as “eligibility authorized.” This form will no longer be used.

Total Estimated Annual Responses: 165,930

Total Estimated Annual Hour Burden: 275,055

Curtis Rich,
Management Analyst.

[FR Doc. 2013-28805 Filed 11-29-13; 8:45 am]

BILLING CODE 8025-01-P